DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 14, 2009.

Interested persons are invited to submit written comments regarding the subject matter of the investigations to the Director, Division of Trade Adjustment Assistance, at the address shown below, not later than September 14, 2009.

The petitions filed in this case are available for inspection at the Division of Trade Adjustment Assistance, Employment and Training Administration, U.S. Department of Labor, Room N-5428, 200 Constitution Avenue, NW., Washington, DC 20210.

Signed at Washington, DC, this 20th day of August 2009.
Linda G. Poole,
Certifying Officer, Division of Trade Adjustment Assistance.

Appendix
[TAA petitions instituted between 6/29/09 and 7/2/09]
TA-W | Subject firm (petitioners) | Location | Date of institution | Date of petition
71438 | The Gillette Company (Comp) | Boston, MA | 06/29/09 | 06/24/09
71439 | Levi Strauss and Company (State) | San Francisco, CA | 06/29/09 | 06/26/09
71440 | O'Bryan Brothers, Inc. (State) | Leon, IA | 06/29/09 | 06/26/09
71441 | ITT Flow Control/Cape Ann Industrial Park (Comp) | Gloucester, MA | 06/29/09 | 06/23/09
71442 | Carlisle Finishing, LLC/Int'l Textile Grp (Comp) | Carlisle, SC | 06/29/09 | 06/25/09
71443 | Applied Materials, Inc. (Rep) | Boise, ID | 06/29/09 | 06/25/09
71444 | Applied Materials, Inc., c/o Intel Corp. M/S RR5-367 (Rep) | Rio Rancho, NM | 06/29/09 | 06/25/09
71445 | Applied Materials, Inc—Sandstone (Rep) | Sandstone, VA | 06/29/09 | 06/25/09
71446 | Applied Materials, Inc.—Santa Clara (95054) | Santa Clara, CA | 06/29/09 | 06/25/09
71447 | Applied Materials, Inc.—Austin (Rep) | Austin, TX | 06/29/09 | 06/25/09
71448 | Applied Materials, Inc.—Lehi (Rep) | Lehi, UT | 06/29/09 | 06/25/09
71449 | The Nieslen Company (Wkrs) | Omaha, NE | 06/29/09 | 06/19/09
71450 | Hewlett Packard (Comp) | Boise, ID | 06/29/09 | 06/24/09
71451 | Doranco, Inc. (State) | Mansfield, MA | 06/29/09 | 06/26/09
71452 | IBM (State) | Newark, NJ | 06/29/09 | 06/29/09
71453 | Carling Technologies, Inc. (State) | Plainville, CT | 06/29/09 | 06/26/09
71454 | American Hollow Boring Co., Inc. (Comp) | Erie, PA | 06/29/09 | 06/26/09
71455 | Wisconsin Casting (USW) | Browntown, WI | 06/29/09 | 06/26/09
71456 | Knitht Celotex (State) | Sunbury, PA | 06/29/09 | 06/29/09
71457 | Oxford Collections (Wkrs) | Gaffney, SC | 06/29/09 | 06/25/09
71458 | Form Tech Industries (UAW) | Detroit, MI | 06/29/09 | 06/26/09
71459 | Eclipse Aviation Corporation (Wkrs) | Albuquerque, NM | 06/29/09 | 06/25/09
71460 | Warner Electric (USW) | So. Beloit, IL | 06/29/09 | 06/25/09
71461 | Arrow Electronics, Inc. (Wkrs) | Melville, NY | 06/29/09 | 06/23/09
71462 | CSG Openline (Wkrs) | Redmond, WA | 06/29/09 | 06/29/09
71463 | Freedom Plastic (USW) | Janesville, WI | 06/29/09 | 06/26/09
71464 | A and L Lumber Company (Wkrs) | Tryon, NC | 06/29/09 | 06/22/09
71465 | Judieth Leiber (Wkrs) | Secaucus, NJ | 06/30/09 | 06/29/09
71466 | Borg Warner Diversified Transmission Products (Comp) | Muncie, IN | 06/30/09 | 06/24/09
71467 | Phillips and Temro, Inc. (Comp) | Eden Prairie, MN | 06/30/09 | 06/24/09
71468 | Electronic Data Systems (Wkrs) | Pontiac, MI | 06/30/09 | 06/25/09
71469 | Acutec Precision Machining Inc. (Wkrs) | Saegertown, PA | 06/30/09 | 06/26/09
71470 | Unifi, Inc./Plant #3 (Comp) | Madison, NC | 06/30/09 | 06/29/09
71471 | Syncreon.US (UAW) | Fenton, MO | 06/30/09 | 06/26/09
71472 | Ford Motor Credit Company (Wkrs) | Dearborn, MI | 06/30/09 | 06/16/09
71473 | Meritor Heavy Vehicle Systems (Comp) | Forest City, NC | 06/30/09 | 06/29/09
71474 | The Uttermost Company (Wkrs) | Rocky Mount, VA | 06/30/09 | 06/01/09
71475 | Akzo Nobel Coatings, Inc. (Wkrs) | Troy, MI | 06/30/09 | 06/29/09
71476 | Lyondellbasell Advanced Polyolefins (Comp) | Mansfield, TX | 06/30/09 | 06/18/09
71477 | SER Enterprise/DHL Logistics (Wkrs) | Ogden, UT | 06/30/09 | 06/26/09
71478 | United States Gypsum (Comp) | Santa Fe Springs, CA | 06/30/09 | 06/29/09
71479 | Eastman Kodak Company (Wkrs) | Rochester, NY | 06/30/09 | 06/25/09
71480 | Hydro Aluminum Precision Tubing North America (UAW) | Adrian, MI | 06/30/09 | 06/26/09
71481 | Koppers (USW) | Clairton, PA | 06/30/09 | 06/29/09
71482 | Trane Pueblo (Comp) | Pueblo, CO | 06/30/09 | 06/22/09
71483 | Continental Airlines (Wkrs) | Houston, TX | 06/30/09 | 06/26/09
71484 | Ontario Die Company of Texas (Comp) | El Paso, TX | 06/30/09 | 06/23/09
71485 | Albaugh, Inc. (Wkrs) | St. Joseph, MO | 06/30/09 | 06/23/09
71486 | Northwest Metals, Inc. (Wkrs) | Okolona, OH | 06/30/09 | 06/26/09
71487 | Work Skills Corporation (Comp) | Brighton, MI | 06/30/09 | 06/17/00
71488 | BMJ Mold and Engeering (Wkrs) | Kokomo, IN | 06/30/09 | 06/24/09
71489 | Manpower—Dubois (Wkrs) | Dubois, PA | 06/30/09 | 06/26/09
71490 | Helicranes, Inc. (Comp) | Bellingham, WA | 06/30/09 | 06/29/09
71491 | Teleperformance (Wkrs) | Salt Lake City, UT | 06/30/09 | 06/26/09
71492 | Cholestech Corporation (Comp) | Hayward, CA | 06/30/09 | 06/29/09
71493 | Evergreen Shipping Agency (America) Corp. (State) | Jersey City, NJ | 06/30/09 | 06/30/09
71494 | Johns Manville (Wkrs) | Spartanburg, SC | 07/01/09 | 06/23/09
71495 | IPSCO Koppel Tubulars Corporation (Wkrs) | Beaver Falls, PA | 07/01/09 | 06/17/09
71496 | Wikel/Allen Express DHL Contractor (Wkrs) | Cape Girardeau, MO | 07/01/09 | 06/29/09
71497 | Telerx/Merck (Wkrs) | Horsham, PA | 07/01/09 | 06/29/09
71498 | DuFresne Manufacturing (State) | Vadnaus Heights, MN | 07/01/09 | 06/30/09
71499 | Sara Lee Corporation (Comp) | Downers Grove, IL | 07/01/09 | 06/30/09
71500 | Datamax—O'Neil Corporation (Wkrs) | Irvine, CA | 07/01/09 | 06/23/09
71501 | Sony Electronics, Inc. (Comp) | San Diego, CA | 07/01/09 | 06/22/09
71502 | Charleston Stamping and Manufacturing (Comp) | South Charleston, WV | 07/01/09 | 06/20/09
71503 | ArcelorMittal USA (USWA) | East Chicago, IN | 07/01/09 | 06/29/09
71504 | United Auto Workers Local 98 (UAW) | Indianapolis, IN | 07/01/09 | 06/18/09
71505 | The Timken Company (USW) | Canton, OH | 07/01/09 | 07/01/09
71506 | ExxonMobil Corporation (Wkrs) | Akron, OH | 07/01/09 | 06/25/09
71507 | Eastman Kodak Company (State) | Norwalk, CT | 07/01/09 | 06/30/09
71508 | Swiss Plywood Corporation (Wkrs) | Tell City, IN | 07/01/09 | 06/29/09
71509 | Walbro Engine Management, LLC (Comp) | Tucson, AZ | 07/01/09 | 06/09/09
71510 | Kurz-Kasch (USW) | Newcomerstown, OH | 07/01/09 | 06/30/09
71511 | Jeld-Wen Engineering (Wkrs) | Klamath Falls, OR | 07/01/09 | 06/26/09
71512 | Allegheny Too and Manufacturing Co., Inc. (Comp) | Meadville, PA | 07/01/09 | 06/29/09
71513 | DeLong Sportswear, Corporate Offices (State) | Grinnell, IA | 07/01/09 | 06/30/09
71514 | Lexington Home Brands, Inc. (Wkrs) | Thomasville, NC | 07/01/09 | 06/23/09
71515 | Hoosier Spline Broach Corporation (Wkrs) | Kokomo, IN | 07/01/09 | 06/24/09
71516 | IHSS/Nazi Mokhtari (State) | Mission Hills, CA | 07/02/09 | 07/01/09
71517 | Idaho Timber of Montana, LLC (Comp) | Whitefish, MT | 07/02/09 | 06/30/09
71518 | Johnson Controls, Inc. (Comp) | Earth City, MO | 07/02/09 | 06/29/09
71519 | Cooper-Standard Automotive (Wkrs) | Novi, MI | 07/02/09 | 06/30/09
71520 | USP Holding Corp. dba US Products (Comp) | Coeur d'Alene, ID | 07/02/09 | 07/01/09
71521 | Qimonda North America Corporation (Wkrs) | Williston, VT | 07/02/09 | 06/29/09
71522 | Coldform, Inc. (State) | Terryville, CT | 07/02/09 | 07/01/09
71523 | Gates Corporation (Comp) | Rockford, IL | 07/02/09 | 07/01/09
71524 | Fluid Routing Solutions (UAW) | Big Rapids, MI | 07/02/09 | 06/03/09
71525 | Results Duffield (Wkrs) | Duffield, VA | 07/02/09 | 07/02/09
71526 | Cinram, Inc. (Wkrs) | Richmond, IN | 07/02/09 | 06/30/09
71527 | Pomeroy IT Solutions (Wkrs) | Hebron, KY | 07/02/09 | 06/26/09
71528 | United States Gypsum (Comp) | La Mirada, CA | 07/02/09 | 06/29/09
71529 | Sara Lee Corporation (Wkrs) | Earth City, MO | 07/02/09 | 07/01/09
71530 | Nordson Corporation (Union) | West Lake, OH | 07/02/09 | 07/01/09
71531 | Newton Transporttion Company, Inc. (Comp) | Hudson, NC | 07/02/09 | 07/02/09
71532 | Sitel Worldwide Corporation (Wkrs) | Nashville, TN | 07/02/09 | 06/30/09
71533 | Mestek, Inc. (IAMAW) | South Windsor, CT | 07/02/09 | 07/01/09
71534 | SP News Print (AWPPW) | Newberg, OR | 07/02/09 | 07/01/09
71535 | Cequent Performance Product—Trailer Div. (Comp) | Mosinee, WI | 07/02/09 | 06/24/09
71536 | Symmetry Medical Cases (Comp) | Auburn, ME | 07/02/09 | 07/01/09
71537 | SBNA Services (UAW) | Kenton, OH | 07/02/09 | 07/02/09
71538 | Ricerca Biosciences, LLC (Comp) | Concord, OH | 07/02/09 | 06/26/09
71539 | Plum Creek (Comp) | Columbia Falls, MT | 07/02/09 | 07/01/09
71540 | Philips Products (Wkrs) | Stayton, OR | 07/02/09 | 07/01/09
71541 | Minority Auto Handling Specialist (Union) | Fenton, MO | 07/02/09 | 07/01/09
71542 | City Service Cleaners (7/1/09) | Lenoir, NC | 07/02/09 | 07/01/09
71543 | Wesley Hall Furniture, Inc. (Wkrs) | Hickory, NC | 07/02/09 | 07/02/09
71544 | Arenal Casting, Inc. (Wkrs) | Sandish, MI | 07/02/09 | 07/01/09
71545 | Agilent Technologies, Inc. (State) | Loveland, CO | 07/02/09 | 07/01/09

[FR Doc. E9-21153 Filed 9-1-09; 8:45 am]

BILLING CODE 4510-FN-P